DEPARTMENT OF THE TREASURY

Alcohol and Tobacco Tax and Trade Bureau

[TTB Notice No. 3; TTB O 1130.2]

Delegation Order—Delegation of the Administrator's Authorities in 27 CFR Parts 19, 40, 71, 72 and 194

To: All Bureau Employees and All Interested Parties

1. Purpose. This order delegates certain authorities of the Administrator, Tax and Trade Bureau (TTB) in 27 CFR parts 19, 40, 71, 72 and 194 to subordinate TTB officers and prescribes the subordinate TTB officers with whom persons file documents.

2. Background:

a. On November 25, 2002, the President signed into law the Homeland Security Act of 2002, Pub. L. 107-296, 116 Stat. 2135 (2002). The Homeland Security Act of 2002 divided the Bureau of Alcohol, Tobacco and Firearms, Department of the Treasury, into two separate agencies, the Bureau of Alcohol, Tobacco, Firearms, and Explosives (ATF) in the Department of Justice, and the Tax and Trade Bureau (TTB) in the Department of the Treasury. This division of the former agency and division of its responsibilities into two new agencies took place 60 days after enactment of the Act on January 24, 2003.

b. The Homeland Security Act of 2002 provides that the newly established Tax and Trade Bureau be headed by an Administrator. It also provides that the authorities, functions, personnel and assets of the Bureau of Alcohol, Tobacco and Firearms that are not transferred to the Department of Justice shall be retained within the Department of the Treasury and administered by the Tax and Trade Bureau.

c. Pursuant to the duties and powers established by the Homeland Security Act of 2002, the Administrator TTB is authorized to administer and enforce Chapters 51 (relating to distilled spirits, wine and beer) and 52 (relating to tobacco products and cigarette papers and tubes) of title 26, U.S.C., the Internal Revenue Code of 1986, as amended, sections 4181 and 4182 (relating to the excise tax on firearms and ammunition) of the Internal Revenue Code of 1986, and title 27, United States Code (relating to alcohol).

d. In addition, Treasury Order No. 120-1 (Revised) dated January 24, 2003 established the Tax and Trade Bureau within the Department of the Treasury and designated it as the Alcohol and Tobacco Tax and Trade Bureau (TTB). It directed that the head of TTB is the Administrator who shall exercise the authorities, perform the functions, and carry out the duties of the Secretary in the administration and enforcement of the laws cited in paragraph 2c above.

e. Treasury Order No. 120-1 also grants the Administrator of TTB all authorities delegated to the Director of the Bureau of Alcohol, Tobacco and Firearms in effect on January 23, 2003, that are related to the administration and enforcement of the laws specified in paragraph 2c. In addition, it grants the Administrator full authority, powers, and duties to administer the affairs of and to perform the functions of TTB, including, without limitation, all management and administrative authorities and responsibilities similarly granted and assigned to Bureau Heads or Heads of Bureaus in Treasury Orders and Treasury Directives.

f. Treasury Order No. 120-1 provides that all regulations adopted on or before January 23, 2003 for the administration and enforcement of the laws cited in paragraph 2c above shall continue in effect until superseded or revised.

g. 27 CFR parts 19, 40, 71, 72 and 194 contain numerous references to ATF titles that are no longer valid since the transfer of responsibility for administration and enforcement of these parts of 27 CFR from the Bureau of Alcohol, Tobacco and Firearms (ATF) to the Alcohol and Tobacco Tax and Trade Bureau (TTB). Therefore, this delegation order identifies those officers within TTB that have replaced the ATF officers named in the current 27 CFR parts 19, 40, 71, 72 and 194. This order also delegates certain authorities to subordinate TTB officers. TTB will publish a final rule in the near future to reflect these changes.

3. Effective Date. This order is effective January 24, 2003.

4. Ratification. In addition to section 1512(a) of the Homeland Security Act of 2002, this order affirms and ratifies any action taken that is consistent with this order.

5. Delegations: a. Under the authority vested in the Administrator, Alcohol and Tobacco Tax and Trade Bureau, by the Homeland Security Act of 2002, Treasury Department Order No. 120-01 (Revised) dated January 24, 2003, and by 26 CFR 301.7701-9, this TTB order delegates certain authorities prescribed in 27 CFR parts 19, 40, 71, 72 and 194 to TTB officers as follows:

Any reference in 27 CFR parts 19, 40, 72 or 194 to authorities of the following officials: | Now refers to the following officials:
Director, Bureau of Alcohol, Tobacco and Firearms | Administrator, Alcohol and Tobacco Tax and Trade Bureau.
Delegate of the Director | Delegate of the Administrator.
ATF Officer | Specialist, National Revenue Center or Investigator * or Auditor. *
ATF Officer or Agent | Specialist, National Revenue Center or Investigator * or Auditor. *
Regional Director (Compliance) | Chief, National Revenue Center or Chief, Trade Investigations Division or Chief, Tax Audit Division.
Director of Industry Operations | Chief, National Revenue Center.
Area Supervisor | Unit Supervisor, National Revenue Center or Supervisor Trade Investigations Group * or Supervisor Tax Audit Group. *
Any employee of the Bureau of Alcohol, Tobacco & Firearms | Any employee of the Alcohol and Tobacco Tax and Trade Bureau.
Chief Counsel of the Bureau of Alcohol, Tobacco and Firearms | Chief Counsel of the Alcohol and Tobacco Tax and Trade Bureau.
Associate Director (Compliance Operations) | Chief, National Revenue Center.
* Field officials are not able to receive materials by mail—all mail should be sent to the National Revenue Center official until further notice.

Any reference in 27 CFR part 71 to authorities of the following officials: | Now refers to the following officials:
Director, Bureau of Alcohol, Tobacco and Firearms | Administrator, Alcohol and Tobacco Tax and Trade Bureau.
Director of Industry Operations | Deputy Assistant Administrator, Field Operations.
Regional Director (Compliance) | Deputy Assistant Administrator, Field Operations.
District Director | Deputy Assistant Administrator, Field Operations.
Employee of the Bureau of Alcohol, Tobacco & Firearms | Employee of the Alcohol and Tobacco Tax and Trade Bureau.
Chief Counsel of the Bureau of Alcohol, Tobacco and Firearms | Chief Counsel of the Alcohol and Tobacco Tax and Trade Bureau.

b. Certain authorities of the Administrator are further redelegated to the following officials:

The authority in part 19 to: | Is redelegated to:
Prescribe forms | Assistant Chief, Regulations and Procedures Division.
Approve alternate methods and procedures | Chief, Regulations and Procedures Division sets precedents, Chief, National Revenue Center acts on similar requests.
Approve emergency variations | Chief, National Revenue Center or Supervisor, Trade Investigations Group * or Supervisor, Tax Audit Group. *
Approve pilot operations | Chief, Regulations and Procedures Division.
Approve experimental operations | Chief, National Revenue Center.
Approve other businesses on distilled spirits plant premises | Chief, National Revenue Center.
Approve withdrawal of spirits by the United States and disposition of excess spirits | Chief, National Revenue Center.
Approve distinctive liquor bottles | Chief, Advertising, Labeling and Formulation Division.
Approve experimental or research operations | Chief, National Revenue Center or Chief, Regulations and Procedures Division.
Approve other gauging device or method | Chief, Regulations and Procedures Division.
Approve securing devices | Chief, National Revenue Center or Chief, Regulations and Procedures Division.
Approve continuity of premises | Chief, National Revenue Center or Chief, Regulations and Procedures Division.
Approve adoption of formulas | Unit Supervisor, National Revenue Center.
Approve alternate lock specifications | Chief, Regulations and Procedures Division.
Approve spirits content of chemicals removed | Chief, Regulations and Procedures Division.
Waive information on labels for export | Chief, Regulations and Procedures Division.
Approve conversion of SDA to other formulas | Chief, Regulations and Procedures Division.
Approve alternate containers | Chief, Regulations and Procedures Division.
Disapprove bottles not constituting approved containers | Specialist, Advertising, Labeling and Formulation Division.
Require statements on labels | Specialist, Advertising, Labeling and Formulation Division.
Approve modified forms | Chief, Regulations and Procedures Division.
Approve materials to render spirits unfit for beverage use | Chief, Nonbeverage Products Section.
To take final action on TTB matters within the Commonwealth of Puerto Rico | Chief, Puerto Rico Operations.
* Field officials are not able to receive materials by mail—all mail should be sent to the National Revenue Center official until further notice.

The authority in part 40 to: | Is redelegated to:
Prescribe forms | Assistant Chief, Regulations and Procedures Division.
Approve alternate methods and procedures | Chief, Regulations and Procedures Division sets precedents, Chief, National Revenue Center acts on similar requests.
Approve emergency variations | Chief, National Revenue Center or Supervisor, Trade Investigations Group* or Supervisor, Tax Audit Group.*
Approve other businesses within factory | Chief, National Revenue Center
Approve alternative package markings | Chief, Regulations and Procedures Division.
* Field officials are not able to receive materials by mail—all mail should be sent to the National Revenue Center official until further notice.

This authority in parts 71, 72 and 194: | Is redelegated to:
Prescribe forms | Assistant Chief, Regulations and Procedures Division.
Delegate of the Administrator in part 72 | Chief, National Revenue Center.
Administrator in 194.229 | Chief, Regulations and Procedures Division.

6. Redelegation. The authorities delegated in this order may not be redelegated.

7. Questions. If you have a question about this order, contact the Regulations and Procedures Division (202-927-8210).

Dated: February 13, 2003.
Arthur J. Libertucci,
Administrator.

BILLING CODE 4810-31-P

[FR Doc. 03-4421 Filed 2-24-03; 8:45 am]

BILLING CODE 4810-31-C